DEPARTMENT OF COMMERCE

Foreign-Trade Zones Board

[Docket 28-2010]

Foreign-Trade Zone 29 - Louisville, Kentucky, Application for Subzone, Louisville Bedding Company (Household Bedding Products), Louisville and Munfordville, Kentucky

An application has been submitted to the Foreign-Trade Zones Board (the Board) by the Louisville & Jefferson County Riverport Authority, grantee of FTZ 29, requesting special-purpose subzone status for the bedding products manufacturing facilities of Louisville Bedding Company (LBC) located in Louisville and Munfordville, Kentucky. The application was submitted pursuant to the provisions of the Foreign-Trade Zones Act, as amended (19 U.S.C. 81a-81u), and the regulations of the Board (15 CFR part 400). It was formally filed on April 26, 2010.

The LBC facilities (530 employees) consist of three sites: Site 1 - manufacturing plant and warehouse (26.1 acres) located at 10400 Bunsen Way, Louisville; Site 2 - warehouse (4.3 acres) located at 100 Quality Street, Munfordville; and, Site 3 - manufacturing plant and warehouse (27.7 acres) located at 660 National Turnpike, Munfordville, Kentucky. The facilities are used to manufacture household bedding products, including mattress pads and pillows (up to 10 million pillows and 10 million mattress pads annually) for the U.S. market and export. LBC is requesting authority to utilize foreign-origin wide roll (80 inches and wider), high thread count (180 threads per inch and higher) cotton, polyester, and synthetic woven fabric and pillow shells (classified under HTSUS Headings 5208, 5210, 5512, 5513, and 6307; duty rate range: 7 - 14.9%) to be cut, sewn, quilted and assembled into the bedding products noted above under FTZ procedures.

FTZ procedures could exempt LBC from customs duty payments on the foreign-origin fabrics and pillow shells used in export production. On its shipments for the domestic market, the finished household bedding products would be entered for consumption from the proposed subzone classified under HTSUS 9404.90, and LBC is seeking authority to elect the various finished bedding product duty rates (4.4 - 7.3%, ad valorem) for the foreign-origin fabric and pillow shell material inputs. Domestic-status fibers would be used to fill the foreign pillow shells. The application indicates that the savings from FTZ procedures would help improve the facilities' international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is July 6, 2010. Rebuttal comments in response to material submitted during the foregoing period may be submitted during the subsequent 15-day period to July 19, 2010.

A copy of the application will be available for public inspection at the Office of the Foreign-Trade Zones Board's Executive Secretary at the address listed above and in the “Reading Room” section of the Board's website, which is accessible via www.trade.gov/ftz. For further information, contact Pierre Duy at Pierre.Duy@trade.gov or (202) 482-1378.

Dated: April 26, 2010.
Andrew McGilvray,
Executive Secretary.

[FR Doc. 2010-10614 Filed 5-4-10; 8:45 am]

BILLING CODE 3510-DS-S